DEPARTMENT OF AGRICULTURE

Office of the Secretary

Notice of Appointment of Members to the National Agricultural Research, Extension, Education, and Economics Advisory Board

AGENCY: Research, Education, and Economics, USDA.

ACTION: Solicitation for membership.

SUMMARY: In accordance with the Federal Advisory Committee Act, the United States Department of Agriculture announces solicitation for nominations to fill 12 vacancies on the National Agricultural Research, Extension, Education, and Economics Advisory Board.

DATES: Deadline for Advisory Board member nominations is July 31, 2006.

ADDRESSES: You may submit comments by any of the following methods: E-mail: smorgan@csrees.usda.gov; Fax: 202-720-6199; Mail/Hand-Delivery/Courier: National Agricultural Research, Extension, Education, and Economics Advisory Board, 1400 Independence Avenue, SW., Room 344-A, Whitten Building, Washington, DC 20250-2255.

FOR FURTHER INFORMATION CONTACT: Shirley Morgan-Jordan; Program Support Coordinator; Telephone: 202-720-3684.

SUPPLEMENTARY INFORMATION: The nominee's name, resume, and completed Form AD-755 must be sent to the U.S. Department of Agriculture, National Research, Extension, Education, and Economics Advisory Board Office, 1400 Independence Avenue, SW.; Room 344-A, Whitten Building; Washington, DC 20250-2255.

Section 1408 of the National Agricultural Research, Extension, and Teaching Policy Act of 1977 (7 U.S.C. 3123) was amended by the Farm Security and Rural Investment Act of 2002 by adding one additional member to the National Agricultural Research, Extension, Education, and Economics Advisory Board, which totals 31 members. Since the Advisory Boards inception by congressional legislation in 1996, each member has represented a specific category related to farming or ranching, food production and processing, forestry research, crop and animal science, land-grant institutions, non-land grant college or university with a historic commitment to research in the food and agricultural sciences, food retailing and marketing, rural economic development, and natural resource and consumer interest groups, among many others. The Board was first appointed by the Secretary of Agriculture in September 1996 and one-third of its members were appointed for a one, two, and three-year term, respectively.

The terms for 11 of the 31 members who represent specific categories will expire September 30, 2006. Nominations for a 3-year appointment for these 11 vacant categories are sought with the exception of Category CC. This is a two-year appointment. All nominees will be carefully reviewed for their expertise, leadership, and relevance to a category.

The 12 slots to be filled are:

Category A. National Farm Organization.

Category C. Food Animal Commodity Producer.

Category E. National Animal Commodity Organization.

Category F. National Crop Commodity Organization.

Category K. National Human Health Association.

Category P. Hispanic-Serving Institutions.

Category R. Non-Land Grant College or University with a Historic Commitment to Research in the Food and Agricultural Sciences.

Category T. Transportation of Food and Agricultural Products to domestic and foreign markets.

Category V. Food and Fiber Processors.

Category AA. Private Sector Organization involved in International Development.

Category CC. Research Agency of the Federal Government Other than USDA.

Category DD. National Social Science Association.

Nominations are being solicited from organizations, associations, societies, councils, federations, groups, and companies that represent a wide variety of food and agricultural interests throughout the country. Nominations for one individual who fits several of the categories listed above, or for more than one person who fits one category, will be accepted. In your nomination letter, please indicate the specific membership category for each nominee. Each nominee must fill out a form AD-755, “Advisory Committee Membership Background Information” (which can be obtained from the contact person above or may be printed out from the following Web site: http://www.nareeeab.com then search AD-755). All nominees will be vetted before selection.

Nominations are open to all individuals without regard to race, color, religion, sex, national origin, age, mental or physical handicap, marital status, or sexual orientation. To ensure that recommendations of the Advisory Board take into account the needs of the diverse groups served by the Department, membership shall include, to the extent practicable, individuals with demonstrated ability to represent minorities, women, and persons with disabilities.

Appointments to the National Agricultural Research, Extension, Education, and Economics Advisory Board will be made by the Secretary of Agriculture.

Done at Washington, DC this 1st day of May 2006.
Merle Pierson,
Deputy Under Secretary, Research, Education, and Economics.

[FR Doc. E6-7247 Filed 5-11-06; 8:45 am]

BILLING CODE 3410-22-P